DEPARTMENT OF DEFENSE

Department of the Navy

[Docket ID: USN-2024-HQ-0009]

Proposed Collection; Comment Request

AGENCY: Department of the Navy, Department of Defense (DoD).

ACTION: 60-Day information collection notice.

SUMMARY: In compliance with the Paperwork Reduction Act of 1995, the Naval Health Research Center announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 26, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Naval Health Research Center, 140 Sylvester Road, San Diego, CA 92106, Dr. Kristen Walter, (619) 540-4108.

SUPPLEMENTARY INFORMATION:

Title; Associated Form; and OMB Number: Social Determinants of Health Study; OMB Control Number 0703-SDOH.

Needs and Uses: Many service members face adverse social determinants of health (SDOH), such as financial, housing, and food insecurity, isolation or distance from others, and social stressors such as racism and discrimination. Exposure to adverse SDOH may place service members at higher risk for behavioral health symptoms and/or suicidality. This study will develop and administer a cross-cutting, comprehensive assessment of upstream risk factors (i.e., SDOH) for behavioral health issues and suicide among Sailors and Marines to determine the relationship between social risk factors and future behavioral health issues in this population. We will also develop procedures for linking Sailors and Marines to appropriate services and programs based on their reported social and behavioral health needs.

Affected Public: Individuals or households.

Annual Burden Hours: 725.

Number of Respondents: 1,088.

Responses per Respondent: 2.

Annual Responses: 2,176.

Average Burden per Response: 20 minutes.

Frequency: Twice (Baseline and 6-month follow-up).

Dated: June 20, 2024.
Aaron T. Siegel,
Alternate OSD Federal Register Liaison Officer, Department of Defense.

[FR Doc. 2024-14075 Filed 6-26-24; 8:45 am]

BILLING CODE 6001-FR-P